DEPARTMENT OF ENERGY

Agency Information Collection Extension

AGENCY: Bonneville Power Administration (BPA), U.S. Department of Energy.

ACTION: Notice of request for comments.

SUMMARY: The Department of Energy (DOE) invites public comment on an information collection request extension that DOE is developing for submission to the Office of Management and Budget (OMB) pursuant to the Paperwork Reduction Act of 1995. The information collection requests a three-year extension of its collection, titled BPA Security, OMB Control Number 1910-5188. The proposed collection will be used to determine access to BPA facilities and report incidents of damage or loss. This information is used to manage and oversee personnel and physical security programs.

DATES: Comments regarding this proposed information collection must be received on or before April 20, 2026. If you anticipate any difficulty in submitting comments within that period, contact the person listed in the FOR FURTHER INFORMATION CONTACT section as soon as possible.

ADDRESSES: Written comments may be sent to Bonneville Power Administration, Attn: Stephanie Noell, Privacy Program, CGI-7, P.O. Box 3621, Portland, OR 97208-3621, or by email at privacy@bpa.gov.

FOR FURTHER INFORMATION CONTACT: Requests for additional information or copies of the information collection instrument and instructions should be directed to Attn: Stephanie Noell, Privacy Program, by email at privacy@bpa.gov, or by phone at (503) 230-3881.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5188;

(2) Information Collection Request Title: BPA Security;

(3) Type of Request: Extension;

(4) Purpose: This information collection is associated with BPA's management and oversight of access to BPA offices and facilities in order to provide measures to safeguard personnel; to prevent unauthorized access to equipment, facilities, material and documents; to safeguard against espionage, sabotage, and theft: BPA F 1400.22a—Other Utility/Contractor/Vendor Worker Access Request, BPA F 1400.22e—Non-Government Employee Data in HRMIS, BPA F 5630.04e—Security Privilege Request—for BPA Control Centers, BPA F 5632.01e—Security Incident Report, BPA F 5632.08e—Unclassified Visits and Assignments—Foreign Nationals Registration (Short Form), BPA F 5632.09e—Personal Identity Verification (PIV) Request for LSSO/Smart Credential, BPA F 5632.11a—BPA Visitor(s) Access Request—with continuation page, BPA F 5632.11e—BPA Visitor(s) Access Request, BPA F 5632.12e—Evidence/Chain of Custody Document, BPA F 5632.27e—Badge Replacement Request, BPA F 5632.30e—PIN Code Request, BPA F 5632.31—OUW PIN & Challenge Question Worksheet, BPA F 5632.32e—Card Key Access Request;

(5) Annual Estimated Number of Respondents: 7,491;

(6) Annual Estimated Number of Total Responses: 8,508;

(7) Annual Estimated Number of Burden Hours: 1,522;

(8) Annual Estimated Reporting and Recordkeeping Cost Burden: $0.

Statutory Authority: The Bonneville Project Act of 1937, 16 U.S.C 832a; and the following additional authorities: 42 U.S.C. 2165 & 7101, et seq; 5 CFR Chapter I parts 5 & 736, E.O. 10450, E.O. 12107, E.O. 12333, E.O. 13284, E.O. 13467, E.O. 13470, E.O. 13488, E.O. 13764, FERC Order No. 706, FIPS 201-3, and HSPD 12.

Signing Authority

This document of the Department of Energy was signed on February 5, 2026, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 13, 2026.
Jennifer Hartzell,
Alternate Federal Register Liaison Officer, U.S. Department of Energy.

[FR Doc. 2026-03165 Filed 2-17-26; 8:45 am]

BILLING CODE 6450-01-P